DEPARTMENT OF TRANSPORTATION

Federal Transit Administration

[FTA Docket No. FTA-2023-0014]

Agency Information Collection Activity under OMB Review

AGENCY: Federal Transit Administration (FTA), Department of Transportation (DOT).

ACTION: Notice of request for comments.

SUMMARY: In accordance with the Paperwork Reduction Act of 1995, this notice announces the intention of the Federal Transit Administration (FTA) to request the Office of Management and Budget (OMB) to approve a new information collection: Public Transportation Safety Program.

DATES: Comments must be submitted before September 5, 2023.

ADDRESSES: To ensure that your comments are not entered more than once into the docket, submit comments identified by the docket number by only one of the following methods:

1. Website: http://www.regulations.gov. Follow the instructions for submitting comments on the U.S. Government electronic docket site. (Note: The U.S. Department of Transportation's (DOT's) electronic docket is no longer accepting electronic comments.) All electronic submissions must be made to the U.S. Government electronic docket site at http://www.regulations.gov. Commenters should follow the directions below for mailed and hand-delivered comments.

2. Fax: 202-366-7951. Mail: U.S. Department of Transportation, 1200 New Jersey Avenue SE, Docket Operations, M-30, West Building, Ground Floor, Room W12-140, Washington, DC 20590-0001.

3. Hand Delivery: U.S. Department of Transportation, 1200 New Jersey Avenue SE, Docket Operations, M-30, West Building, Ground Floor, Room W12-140, Washington, DC 20590-0001 between 9:00 a.m. and 5:00 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to internet users, without change, to http://www.regulations.gov. You may review DOT's complete Privacy Act Statement in the Federal Register published April 11, 2000, (65 FR 19477), or you may visit http://www.regulations.gov.

Docket: For access to the docket to read background documents and comments received, go to http://www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except Federal holidays.

FOR FURTHER INFORMATION CONTACT: Emily Jessup, Office of Chief Counsel, (202) 366-8907 or email: Emily.Jessup@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Public Transportation Safety Program.

Background: Congress directed FTA to establish a comprehensive Public Transportation Safety Program in the Moving Ahead for Progress in the 21st Century Act (Pub. L. 112-141; July 6, 2012) (MAP-21), which was reauthorized by the Fixing America's Surface Transportation Act (Pub. L. 114-94; December 4, 2015). The Bipartisan Infrastructure Law, enacted as the Infrastructure Investment and Jobs Act (Pub. L. 117-58; November 15, 2021), continues FTA's authority to regulate public transportation systems that receive Federal financial assistance under chapter 53.

49 U.S.C. 5329(f) authorizes FTA to “require the production of documents by, and prescribe recordkeeping and reporting requirements for, a recipient or a State safety oversight agency” for the purposes of carrying out the Federal Public Transportation Safety Program. FTA is seeking approval of an information collection that will allow FTA to collect safety related data from transit agencies, State Safety Oversight Agencies (SSOAs), and States. FTA will use this information collection to assess how recipients of Federal financial assistance under chapter 53 are complying with FTA safety requirements and recommendations and ensuring safe transportation systems for the riders and patrons using each system, the workers operating each system, and the pedestrians interacting with each system. FTA may also use this collection to assist in determining whether there is a need for new or revised safety requirements. This collection is different from the existing safety related collections associated with the Public Transportation Agency Safety Plan Program (2132-0580), the Public Transportation Safety Certification Training Program (2132-0578), and the State Safety Oversight Program (2132-0558). The aforementioned collections are approved to collect information related to the requirements of those safety programs while this new collection is intended to cover other safety issues, including emerging safety concerns.

The information captured through this data collection will enable FTA to respond to existing safety issues and be proactive to address potential and emerging safety concerns. This information collection is essential to FTA's safety oversight and grant-making roles—both critical to the Agency's mission of improving public transportation for America's communities.

Respondents: Transit agencies, State safety oversight agencies, and States.

Estimated Annual Number of Respondents: 855 (768 transit agencies, 31 SSOAs, 56 States including the District of Columbia, Puerto Rico, the Northern Mariana Islands, Guam, American Samoa, and the Virgin Islands).

Estimated Annual Number of Responses: 1,710 responses.

Estimated Total Annual Burden: 20,520 hours.

Frequency: Periodic.

Emily Anderson,
Director, Office of Management Planning.

[FR Doc. 2023-14249 Filed 7-5-23; 8:45 am]

BILLING CODE 4910-57-P